DEPARTMENT OF COMMERCE

Census Bureau

Proposed Information Collection; Comment Request; Address Canvassing Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before May 23, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Robin A. Pennington, Census Bureau, HQ-2K281N, Washington, DC 20233; (301) 763-8132 (or via email at robin.a.pennington@census.gov).

SUPPLEMENTARY INFORMATION:

I. Abstract

During the years preceding the 2020 Census, the Census Bureau will pursue its commitment to reduce the costs of conducting a decennial census, while maintaining our commitment to quality. With cost reductions in mind, the Census Bureau is focusing on Key Innovation Areas, which includes reengineering the 2020 Census Address Canvassing Operation. The goal of Reengineering Address Canvassing is to ensure an accurate address frame is developed utilizing innovative methodologies and data for updating the Master Address File (MAF)/Topologically Integrated Geographic Encoding and Referencing (TIGER) System throughout the decade.

The Address Canvassing Test, which occurs in the fall of 2016, will include two major components of the reengineered Address Canvassing operation: In-Office Address Canvassing and In-Field Address Canvassing. The purpose of the test is to determine the accuracy and feasibility of some of the planned innovations for Address Canvassing. The Census Bureau believes that there are other means for accomplishing the address list updates and determining which areas have housing changes without canvassing every single block in the field just before the census. The Address Canvassing Test will examine these new methods, which will allow decisions to be made about their feasibility for use within the decennial census.

The following objectives are crucial to a successful Address Canvassing Test:

• Implementing all In-Office Address Canvassing processes, including Interactive Review (IR), Active Block Resolution (ABR), MAF Updating and Identification of the In-Field Address Canvassing workload.

• Evaluating the effectiveness of online training for Field Supervisors and Field Representatives.

• Measuring the effectiveness of In-Office Address Canvassing through In-Field Address Canvassing.

• Integrating multiple information technology applications to create one seamless operational data collection, control and management system.

Background

The purpose of the Address Canvassing Operation is (1) to deliver a complete and accurate address list and spatial database for enumeration and tabulation, and (2) to determine the type and address characteristics for each living quarter. A complete and accurate address list and map is the cornerstone of a successful census.

For the 2010 Census, Address Canvassing field staff, referred to as listers, traversed almost every block in the nation to compare what they observed on the ground to the contents of the Census Bureau's address list. Listers verified or corrected addresses that were on the list, added new addresses to the list, and deleted addresses that no longer existed. Listers also collected map spot locations (i.e., Global Positioning System coordinates) for each structure and added new streets.

In addition to Address Canvassing, the Census Bureau conducted the Group Quarters Validation (GQV) operation after the Address Canvassing operation and prior to enumeration for the 2010 Census. The purpose of the GQV operation was to improve the Group Quarters (GQ) frame. A GQ is a place where people live or stay, in a group living arrangement, that is owned or managed by an entity or organization providing housing and/or services for the residents. This is not a typical household-type living arrangement, and residency is commonly restricted to those receiving specific services. People living in GQs are usually not related to each other. Types of GQs include such places as college residence halls, residential treatment centers, skilled-nursing facilities, group homes, military barracks, correctional facilities, and workers' dormitories. Services offered may include custodial or medical care as well as other types of assistance.

For the 2010 Census GQV operation, field staff visited a specific address to determine if it was a GQ, housing unit, transitory location, a non-residential unit, or if it was nonexistent. If the address was a GQ, the lister conducted an in-person interview with the GQ contact person to determine a type of GQ and collect additional information to plan for enumeration. In support of a more efficient census design strategy, the 2020 Census will not conduct a separate operation to validate GQ information. Instead, the 2020 Census will validate GQ information during the Address Canvassing operation.

Transitory Locations are recreational vehicle parks, campgrounds, hotels, motels, marinas, racetracks, circuses and carnivals. Transitory Locations are not in scope for the Address Canvassing Test.

2020 Census Address Canvassing: In-Office Address Canvassing

In-Office Address Canvassing is the process of using empirical geographic evidence (e.g., imagery, comparison of the Census Bureau's address list to partner-provided lists) to assess the current address list and make changes where necessary. This component removes geographic areas from the In-Field Address Canvassing workload based on the determination of address stability. In addition, this component detects and captures change from high quality administrative and third-party data, reducing the In-Field Address Canvassing workload.

In-Office Address Canvassing starts with Interactive Review (IR), which is an imagery-based review to assess the extent to which the number of addresses—both housing units and Group Quarters—in the census address list are consistent with the number of addresses visible in current imagery. It also assesses the changes between the current imagery and an older vintage of imagery (around the time of 2010 Address Canvassing).

Results from IR inform the Active Block Resolution (ABR) process, which seeks to research and update areas identified with growth, decline, undercoverage of addresses, or overcoverage of addresses from the comparison of the two different vintages of imagery and counts of addresses in the MAF. In addition to using the results from IR, the ABR process uses other data sources to resolve the identified issues in the office and to update the MAF rather than sending these areas to In-Field Address Canvassing. The other data sources include local Geographic Information Systems (GIS) viewers available online, parcel data, local files acquired through the U.S. Census Bureau's Geographic Support System (GSS) program, and commercial data. Areas not resolved in the office become the universe of geographic areas worked during In-Field Address Canvassing.

2020 Census Address Canvasing: In-Field Address Canvassing

In-Field Address Canvassing is the process of having field staff visit specific geographic areas to identify every place where people could live or stay. Field staff compare what they see on the ground to the existing census address list and either verify or correct the address and location information. Field staff also classify each living quarter (LQ) as a housing unit or GQ. Field staff (listers) will knock on doors at every structure in an attempt to locate LQs. If someone answers, the lister will provide a Confidentiality Notice and ask about the address in order to verify or update the information, as appropriate. The listers will then ask if there are any additional LQs in the structure or on the property. If there are additional LQs, the listers will collect/update that information, as appropriate. If the lister does not find anyone at home, they will update the address list as best they can by observation.

II. Method of Collection

Universe

The Address Canvassing Test occurs in two sites within the continental United States. Each site is comprised of 4,000 blocks with up to 125,000 addresses in each site. All living quarters in the test sites are included in the In-Office Address Canvassing workload, as well as the In-Field Address Canvassing workload. For the In-Field Address Canvassing data collection, listers will knock on every door to ask residents about their living quarters. However, the Census Bureau expects that they would make contact with residents (i.e., someone is at home) at most 50 percent of the time.

In-Field Address Canvassing

In-Field Address Canvassing will hire new field listers, who are primarily inexperienced with census listing activities. Listers will receive work assignments grouped by geography and in close proximity to the lister's residence (whenever possible). Field staff will use the Census Bureau's Listing and Mapping Application (LiMA) software on government furnished smartphone devices.

Current Design Strategy

In order to assess and accomplish the stated objectives described above, both In-Office Address Canvassing clerical staff and In-Field Address Canvassing listers will work every block in the two test sites. This allows for the comparison of results from both In-Office Address Canvassing and In-Field Address Canvasing to measure the effectiveness of In-Office Address Canvassing procedures and processes.

III. Data

OMB Control Number: 0607-XXXX.

Form Number(s): NA.

Type of Review: Regular Submission.

Affected Public: Households/Individuals.

Estimated Number of Respondents: 62,500 Households.

Estimated Time per Response: 5 min/Household.

Estimated Total Annual Burden Hours: 5,208.

Estimated Total Annual Cost to Public: The only cost to respondents is that of their time to respond.

Respondent's Obligation: Mandatory.

Legal Authority: Title 13 United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 17, 2016.
Glenna Mickelson,
Management Analyst, Office of the Chief Information Officer.

[FR Doc. 2016-06466 Filed 3-22-16; 8:45 am]

BILLING CODE 3510-07-P